COMMITTEE FOR PURCHASE FROM PEOPLE WHO ARE BLIND OR SEVERELY DISABLED

Procurement List; Additions and Deletions

AGENCY: Committee for Purchase From People Who Are Blind or Severely Disabled.

ACTION: Additions to and deletions from procurement list.

SUMMARY: This action adds to the Procurement List services to be furnished by nonprofit agencies employing persons who are blind or have other severe disabilities, and deletes from the Procurement List products previously furnished by such agencies.

EFFECTIVE DATE: October 3, 2004.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION:

Additions

On June 25, July 2, and July 9, 2004, the Committee for Purchase From People Who Are Blind or Severely Disabled published notice (69 FR 35580, 40350, and 41456) of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Services,

Colville NF Ranger Station,

255 W 11th, Kettle Falls, Washington.

NPA: Career Connections, Spokane, Washington.

Contract Activity: USDA, Forest Service, Colville, Washington.

Service Type/Location: Custodial Services,

National Institute of Standards & Technology (NIST),

Advanced Measurement Laboratory, Gaithersburg, Maryland.

NPA: Opportunities, Inc., Alexandria, Virginia.

Contract Activity: National Institute of Standards & Technology, Gaithersburg, Maryland.

Service Type/Location: Custodial Services,

Quad-Cities Veterans Center,

1529 46th Avenue, Moline, Illinois.

NPA: Association for Retarded Citizens of Rock Island County, Rock Island, Illinois.

Contract Activity: Veterans Affairs Medical Center, Iowa City, Iowa.

Service Type/Location: Custodial Services,

Ranger Station/Comp Bldg.,

765 S. Main, Colville, Washington.

NPA: Career Connections, Spokane, Washington.

Contract Activity: USDA, Forest Service, Colville, Washington.

Service Type/Location: Switchboard Operation,

4th Communication Squadron,

1695 Wright Brothers Avenue, Seymour Johnson AFB, North Carolina.

NPA: Coastal Enterprises of Jacksonville, Inc., Jacksonville, North Carolina.

Contract Activity: AF-ACC-Seymour Johnson, Seymour Johnson AFB, North Carolina.

Deletions

On April 7, and April 30, 2004, the Committee for Purchase From People Who Are Blind or Severely Disabled published notice (69 FR 17391, and 23723) of proposed deletions to the Procurement List.

After consideration of the relevant matter presented, the Committee has determined that the products listed below are no longer suitable for procurement by the Federal Government under 41 U.S.C. 46-48c and 41 CFR 51-2.4.

Regulatory Flexibility Act Certification

I certify that the following action will not have a significant impact on a substantial number of small entities. The major factors considered for this certification were:

1. The action may result in additional reporting, recordkeeping or other compliance requirements for small entities.

2. The action may result in authorizing small entities to furnish the products to the Government.

3. There are no known regulatory alternatives which would accomplish the objectives of the Javits-Wagner-O'Day Act (41 U.S.C. 46-48c) in connection with the products deleted from the Procurement List.

End of Certification

Accordingly, the following products are deleted from the Procurement List:

Products

Product/NSN: Sheet, Bed, Disposable,

7210-00-498-0512.

NPA: East Texas Lighthouse for the Blind, Tyler, Texas.

Contract Activity: Defense Supply Center Philadelphia, Philadelphia, Pennsylvania.

Product/NSN: Tarpaulin, Support Arm, 5815-01-108-9180.

NPA: None currently authorized.

Contract Activity: Defense Supply Center Columbus, Columbus, Ohio.

G. John Heyer,
General Counsel.

[FR Doc. 04-20160 Filed 9-2-04; 8:45 am]

BILLING CODE 6353-01-P